POSTAL SERVICE

United States Postal Service Board of Governors; Sunshine Act Meeting

Times and Dates: 1 p.m., Monday, August 1, 2005; and 8 a.m., Tuesday, August 2, 2005.

Place: Newport Beach, California, at the Balboa Bay Hotel, 1221 West Coast Highway, in the Grand Ballroom.

Status: August—1 p.m. (Closed); August 2—8 a.m. (Open);

Matters To Be Considered:

Monday, August 1—1 p.m. (Closed)

1. Strategic Planning.

2. Rate Case Planning.

3. Personnel Matters and Compensation Issues.

4. Pricing of International Services.

5. Preliminary Report on Goals and Performance Assessment for Fiscal Year 2006.

6. Financial Update.

7. Preliminary Fiscal Year 2006 Integrated Financial Plan and Financial Outlook.

8. Capital Investment—Postal Automated Redirection System, Phase 2.

Tuesday, August 2—8 a.m. (Open)

1. Minutes of the Previous Meeting, June 14, 2005.

2. Remarks of the Postmaster General and Chief Executive Officer.

3. Committee Reports.

4. Capital Investment—Distribution Quality Improvement.

5. Quarterly Report on Service Performance.

6. Quarterly Report on Financial Performance.

7. Report on the Pacific Area and Santa Ana District.

8. Tentative Agenda for the September 27, 2005, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 05-14773 Filed 7-21-05; 4:09 pm]

BILLING CODE 7710-12-M